DEPARTMENT OF HEALTH AND HUMAN SERVICES

Indian Health Service

Reimbursement Rates for Calendar Year 2004

Correction

In notice document 04-13892 appearing on page 34375 in the issue of Monday, June 21, 2004, make the following correction:

On page 34375, in the second column, the table is corrected in part to read as follows:

Inpatient Hospital per Diem Rate (Excludes Physician Services) Calendar Year 2004
* * * * | *
Outpatient per Visit Rate (Excluding Medicare) Calendar Year 2004
Lower 48 States | $216 | Alaska | $402
Outpatient per Visit Rate (Medicare) Calendar Year 2004
Lower 48 States | $178
Alaska | $367
* * * * | *

[FR Doc. C4-13892 Filed 6-30-04; 8:45 am]

BILLING CODE 1505-01-D